DEPARTMENT OF HEALTH AND HUMAN SERVICES

Health Resources and Services Administration

Ryan White HIV/AIDS Program Part C Early Intervention Services Grant Under the Ryan White HIV/AIDS Program

AGENCY: Health Resources and Services Administration (HRSA), Department of Health and Human Services.

ACTION: Notice of Ryan White HIV/AIDS Program Part C Early Intervention Services One-Time Noncompetitive Award To Ensure Continued HIV Primary Medical Care.

SUMMARY: To prevent a lapse in comprehensive primary care services for persons living with HIV/AIDS, HRSA will provide a one-time noncompetitive Ryan White HIV/AIDS Program Part C award to Our Lady of the Lake Regional Medical Center, Inc. (OLOL), Baton Rouge, Louisiana.

SUPPLEMENTARY INFORMATION: The amount of the award to ensure ongoing HIV medical services is $348,111.

Authority: Section 2651 of the Public Health Service (PHS) Act, 42 U.S.C. 300ff-51.

CFDA Number: 93.918.

Project period: The period of support for this award is 13 months, explained below in further detail.

Justification for the Exception to Competition: The Louisiana State University Health Sciences Center—Earl K. Long Medical Center (Grant Number: H76HA00591) announced the relinquishment of their Part C grant effective April 15, 2013. To prevent a lapse in HIV medical care, grant funds of $348,111 are to be awarded to OLOL to provide interim HIV medical care. The $348,111 represents the balance of the fiscal year 2013 award to cover HIV primary medical care services until April 30, 2014. The service area will be competed under HRSA-14-059 with a program start date of May 1, 2014.

FOR FURTHER INFORMATION CONTACT: John Fanning, Senior Policy Advisor, Division of Community HIV/AIDS Programs/HAB, HRSA, 5600 Fishers Lane, Rockville, MD 20857, by email at jfanning@hrsa.gov, or by phone at (301) 443-8367.

Dated: December 23, 2013.
Mary K. Wakefield,
Administrator.

[FR Doc. 2013-31120 Filed 12-26-13; 8:45 am]

BILLING CODE 4165-15-P